DEPARTMENT OF ENERGY

Office of Science; Advanced Scientific Computing Advisory Committee (ASCAC)

AGENCY: Department of Energy.

ACTION: Notice of open meeting.

SUMMARY: This notice announces a meeting of the Advanced Scientific Computing Advisory Committee (ASCAC). Federal Advisory Committee Act (Pub. L. 92-463,86 Stat. 770) requires that public notice of these meetings be announced in the Federal Register.

DATES: Tuesday, August 8, 2006, 8:30 a.m. to 5 p.m.; Wednesday, August 9, 2006, 9 a.m. to 12:30 p.m.

ADDRESSES: American Geophysical Union, (AGU),2000 Florida Avenue, NW.,Washington, DC 20009-1277.

FOR FURTHER INFORMATION CONTACT: Melea Baker, Office of Advanced Scientific Computing Research; SC-21/Germantown Building; U.S. Department of Energy; 1000 Independence Avenue, SW.; Washington, DC 20585-1290; Telephone (301) 903-7486, (E-mail: Melea.Baker@science.doe.gov).

SUPPLEMENTARY INFORMATION: Purpose of the Meeting: The purpose of this meeting is to provide advice and guidance with respect to the advanced scientific computing research program.

Tentative Agenda: Agenda will include discussions of the following:

Tuesday, August 8, 2006

ASCR Overview.

DOE Science.

SciDAC Overview.

Charge 2, Networking Subcommittee Overview.

Charge 1, Science Based Performance Metrics.

Subcommittee Overview.

Independent Review—Leadership Class Facilities.

Public Comment.

Wednesday, August 9, 2006.

ORNL Leadership Class Petascale Project.

ANL Leadership Class Petascale Project.

Summary Review of Applied Programs in SC.

NERSC Upgrades.

ESNet Upgrades.

Public Comment.

Public Participation. The meeting is open to the public. If you would like to file a written statement with the Committee, you may do so either before or after the meeting. If you would like to make oral statements regarding any of the items on the agenda, you should contact Melea Baker via FAX at 301-903-4846 or via e-mail (Melea.Baker@science.doe.gov). You must make your request for an oral statement at least 5 business days prior to the meeting. Reasonable provision will be made to include the scheduled oral statements on the agenda. The Chairperson of the Committee will conduct the meeting to facilitate the orderly conduct of business. Public comment will follow the 10-minute rule.

Minutes: The minutes of this meeting will be available for public review and copying within 30 days at the Freedom of Information Public Reading Room; 1E-190, Forrestal Building; 1000 Independence Avenue, SW., Washington, DC 20585; between 9 a.m. and 4 p.m., Monday through Friday, except holidays.

Issued in Washington, D.C. on July 13, 2006.
Rachel M. Samuel,
Deputy Advisory Committee Management Officer.

[FR Doc. E6-11337 Filed 7-17-06; 8:45 am]

BILLING CODE 6450-01-P